DEPARTMENT OF COMMERCE

International Trade Administration

[A-570-908]

Sodium Hexametaphosphate From the People's Republic of China: Extension of Time Limit for the Final Results

AGENCY: Import Administration, International Trade Administration, Department of Commerce.

DATES: Effective Date: May 17, 2012.

FOR FURTHER INFORMATION CONTACT: Paul Walker, AD/CVD Operations, Office 9, Import Administration, International Trade Administration, U.S. Department of Commerce, 14th Street and Constitution Avenue NW., Washington, DC 20230; telephone 202.482.0413.

Background

On March 23, 2012, the Department of Commerce (the “Department”) published in the Federal Register the Preliminary Results of the second administrative review of sodium hexametaphosphate from the People's Republic of China (“PRC”), covering the period March 1, 2010 to February 28, 2011.¹ The final results of this administrative review are currently due on July 21, 2012.

¹ See Sodium Hexametaphosphate from the People's Republic of China: Preliminary Results of Second Antidumping Duty Administrative Review, 77 FR 17013 (March 23, 2012) (“Preliminary Results”).

Extension of Time Limit for the Final Results

Section 751(a)(3)(A) of the Tariff Act of 1930, as amended (the “Act”), requires the Department to issue the final results of an administrative review within 120 days after the date on which the Preliminary Results have been published. If it is not practicable to complete the review within the time period, section 751(a)(3)(A) of the Act allows the Department to extend this deadline to a maximum of 180 days.

The Department determines that completion of the final results of this review within the statutory time period is not practicable. The Department requires more time to analyze a significant amount of information pertaining to the respondent's corporate structure and ownership, sales practices and manufacturing methods. Therefore, given the number and complexity of issues in this case, and in accordance with section 751(a)(3)(A) of the Act, we are extending the time period for issuing the final results of review by 60 days until September 19, 2012.

This notice is published pursuant to sections 751(a)(1)(3)(A) and 777(i)(1) of the Act and 19 CFR 351.213(h)(2).

Dated: May 4, 2012.
Christian Marsh,
Deputy Assistant Secretary for Antidumping and Countervailing Duty Operations.

[FR Doc. 2012-11889 Filed 5-16-12; 8:45 am]

BILLING CODE 3510-DS-P